NUCLEAR REGULATORY COMMISSION

[NRC-2009-0014]

Draft Regulatory Guides: Issuance, Availability

AGENCY: Nuclear Regulatory Commission.

ACTION: Notice of issuance and availability of Draft Regulatory Guides DG-1191, DG-1192, and DG-1193.

FOR FURTHER INFORMATION CONTACT: Wallace E. Norris, U.S. Nuclear Regulatory Commission, Washington, DC 20555-0001, telephone: (301) 251-7650 or e-mail to Wallace.Norris@nrc.gov.

SUPPLEMENTARY INFORMATION:

I. Introduction

The U.S. Nuclear Regulatory Commission (NRC) is issuing for public comment three Draft Regulatory Guides (DGs) in the agency's “Regulatory Guide” series. Specifically, these are Revision 35 of Regulatory Guide (RG) 1.84, “Design, Fabrication, and Materials Code Case Acceptability, ASME Section III” (temporarily identified by its task number, DG-1191); Revision 16 of RG 1.147, “Inservice Inspection Code Case Acceptability, ASME Section XI, Division 1” (temporarily identified by its task number DG-1192); and Revision 3 of RG 1.193, “ASME Code Cases Not Approved for Use” (temporarily identified by its task number DG-1193).

This series was developed to describe and make available to the public such information as methods acceptable to the NRC staff for implementing specific parts of NRC's regulations, techniques the staff uses in evaluating specific problems or postulated accidents, and data the staff needs in its review of applications for permits and licenses.

II. Discussion

Regulatory Guide 1.84 (temporarily identified by its task number, DG-1191) lists all Section III Code Cases that NRC has approved for use. For Revision 35 of the guide, NRC reviewed the Section III Code Cases listed in Supplements 2-11 to the 2004 Edition of the American Society of Mechanical Engineers (ASME) Boiler and Pressure Vessel (BPV) Code and Supplement 0 to the 2007 Edition (Supplement 0 also serves as Supplement 12 to the 2004 Edition). Appendix A to this guide lists the supplements reviewed, the applicable edition, and the date on which each supplement was approved by the ASME Board on Nuclear Codes and Standards. Appendix B is a list of the Section III Code Cases addressed in the eleven supplements. Finally, Appendix C is a current list of all Section III Code Cases.

Provisions of the ASME BPV Code have been used since 1971 as one part of the framework to establish the necessary design, fabrication, construction, testing, and performance requirements for structures, systems, and components important to safety. Among other things, ASME standards committees develop improved methods for the construction and inservice inspection (ISI) of ASME Classes 1, 2, 3, MC (metal containment), and CC (concrete containment) nuclear power plant components. A broad spectrum of stakeholders participate in the ASME process, which helps to ensure that the various interests are considered.

The regulation in Title 10, Part 50, of the Code of Federal Regulations (CFR), 10 CFR 50.55a(c), “Reactor Coolant Pressure Boundary,” requires, in part, that components of the reactor coolant pressure boundary must be designed, fabricated, erected, and tested in accordance with the requirements for Class 1 components of Section III, “Rules for Construction of Nuclear Power Plant Components,” of the ASME BPV Code or equivalent quality standards. ASME publishes a new edition of the BPV Code, which includes Section III, every 3 years and new addenda every year. The latest editions and addenda of Section III that NRC has approved for use are referenced in 10 CFR 50.55a(b).

ASME also publishes Code Cases quarterly. Code Cases provide alternatives developed and approved by ASME. This RG identifies the Code Cases that have been determined by NRC to be acceptable alternatives to applicable parts of Section III. Section III Code Cases not yet endorsed by NRC may be used by a licensee or applicant through 10 CFR 50.55a(a)(3). That section permits the use of alternatives to the Code requirements referenced in 10 CFR 50.55a provided that the proposed alternatives result in an acceptable level of quality and safety and that their use is authorized by the Director of the Office of Nuclear Reactor Regulation.

The ASME Code is incorporated by reference into 10 CFR 50.55a. Code Cases approved by NRC provide an acceptable voluntary alternative to the mandatory ASME Code provisions. Therefore, NRC will amend 10 CFR 50.55a to incorporate by reference the new Code Cases and revisions to existing Code Cases listed in this guide and to state the requirements governing the use of Code Cases. Because of continuing change in the status of Code Cases, the staff plans periodic updates to 10 CFR 50.55a and this guide to accommodate new Code Cases and any revisions of existing Code Cases.

For Revision 16 of RG 1.147 (temporarily identified by its task number DG-1192), NRC reviewed the Section XI Code Cases listed in Supplements 2 through 11 to the 2004 Edition and Supplement 0 published with the 2007 Edition (Supplement 0 also serves as Supplement 12 to the 2004 Edition) of the ASME BPV Code. Appendix A to this guide lists the supplements reviewed, the edition, the supplement number, and the date on which the supplement was approved by the ASME Board on Nuclear Codes and Standards. Appendix B is a list of the Section XI Code Cases published by ASME in the 11 supplements. Finally, Appendix C is a current list of all Section XI Code Cases.

The regulation in 10 CFR 50.55a(g), “Inservice Inspection Requirements,” requires, in part, that Classes 1, 2, 3, metal containment (MC) and concrete containment (CC) components and their supports meet the requirements of Section XI, “Rules for Inservice Inspection of Nuclear Power Plant Components,” of the ASME BPV Code or equivalent quality standards. Every 3 years, ASME publishes a new edition of the BPV Code, including Section XI, and new addenda are published every year. The latest editions and addenda of Section XI that NRC has approved for use are referenced in 10 CFR 50.55a(b). ASME also publishes Code Cases quarterly. Code Cases provide alternatives to existing Code requirements that ASME developed and approved. This RG identifies the Code Cases that NRC has determined to be acceptable alternatives to applicable parts of Section XI. Licensees may use these Code Cases without requesting authorization from NRC provided they are used with any identified limitations or modifications. Section XI Code Cases not yet endorsed by NRC may be used by a licensee or applicant through 10 CFR 50.55a(a)(3). That section permits the use of alternatives to the Code requirements referenced in 10 CFR 50.55a provided the proposed alternatives result in an acceptable level of quality and safety and that their use is authorized by the Director of the Office of Nuclear Reactor Regulation.

The ASME Code is incorporated by reference into 10 CFR 50.55a, which NRC will amend to incorporate this guide by reference; 10 CFR 50.55a states the requirements governing the use of Code Cases. Because of continuing change in the status of Code Cases, the staff plans periodic updates to 10 CFR 50.55a and this guide to accommodate new Code Cases and any revisions of existing Code Cases. Code Cases approved by NRC provide an acceptable voluntary alternative to the mandatory ASME Code provisions.

Revision 3 of RG 1.193 (temporarily identified by its task number DG-1193) lists the Code Cases that NRC has determined not to be acceptable for use on a generic basis. A brief description of the basis for the determination is provided with each Code Case. Licensees may submit a request to implement one or more of the Code Cases listed through 10 CFR 50.55a(a)(3), which permits the use of alternatives to the Code requirements referenced in 10 CFR 50.55a, provided the proposed alternatives result in an acceptable level of quality and safety. Licensees must submit a plant-specific request that addresses NRC's concerns about the Code Case at issue.

In 10 CFR Part 50 “Domestic Licensing of Production and Utilization Facilities,” Section 50.55a(c), “Reactor Coolant Pressure Boundary,” requires, in part, that components of the reactor coolant pressure boundary be designed, fabricated, erected, and tested in accordance with the requirements for Class 1 components of Section III, “Rules for Construction of Nuclear Power Plant Components,” of the ASME BPV Code or equivalent quality standards. Section 50.55a(f), “Inservice Testing Requirements,” requires, in part, that Classes 1, 2, and 3 components and their supports meet the requirements of the ASME Code for Operation and Maintenance of Nuclear Power Plants (OM Code) or equivalent quality standards. Finally, 10 CFR 50.55a(g), “Inservice Inspection Requirements,” requires, in part, that Classes 1, 2, 3, MC and CC components and their supports meet the requirements of Section XI, “Rules for Inservice Inspection of Nuclear Power Plant Components,” of the ASME BPV Code or equivalent quality standards.

III. Further Information

The NRC staff is soliciting comments on DG-1191, DG-1192, and DG-1193. Comments may be accompanied by relevant information or supporting data and should mention DG-1191, DG-1192, or DG-1193 in the subject line. Comments submitted in writing or in electronic form will be made available to the public in their entirety through the NRC's Agencywide Documents Access and Management System (ADAMS).

Personal information will not be removed from your comments. You may submit comments by any of the following methods:

1. Mail comments to: Rulemaking and Directives Branch, Mail Stop: TWB-05-B01M, Office of Administration, U.S. Nuclear Regulatory Commission, Washington, DC 20555-0001.

2. Federal e-Rulemaking Portal: Go to http://www.regulations.gov and search for documents filed under Docket ID [NRC-2009-0014]. Address questions about NRC dockets to Carol Gallagher 301-492-3668; e-mail Carol.Gallagher@nrc.gov.

3. Fax comments to: Rulemaking and Directives Branch, Office of Administration, U.S. Nuclear Regulatory Commission at (301) 492-3446.

Requests for technical information about DG-1191, DG-1192, and DG-1193 may be directed to the NRC contact, Wallace E. Norris, at (301) 251-7650 or e-mail to Wallace.Norris@nrc.gov.

Comments would be most helpful if received by August 17, 2009. Comments received after that date will be considered if it is practical to do so, but NRC is able to ensure consideration only for comments received on or before this date. Although a time limit is given, comments and suggestions in connection with items for inclusion in guides currently being developed or improvements in all published guides are encouraged at any time.

Electronic copies of DG-1191, DG-1192, and DG-1193 are available through NRC's public Web site under Draft Regulatory Guides in the “Regulatory Guides” collection of NRC's Electronic Reading Room at http://www.nrc.gov/reading-rm/doc-collections/. Electronic copies also are available in ADAMS (http://www.nrc.gov/reading-rm/adams.html) under Accession No. ML080910389 (DG-1191), ML080910245 (DG-1192), and ML080920854 (DG-1193).

In addition, regulatory guides are available for inspection at NRC's Public Document Room (PDR) located at 11555 Rockville Pike, Rockville, Maryland. The PDR's mailing address is USNRC PDR, Washington, DC 20555-0001. The PDR also can be reached by telephone at (301) 415-4737 or (800) 397-4205, by fax at (301) 415-3548, and by e-mail to pdr.resource@nrc.gov.

Regulatory guides are not copyrighted, and Commission approval is not required to reproduce them.

Dated at Rockville, Maryland, this 21st day of May 2009.
For the Nuclear Regulatory Commission.
James E. Lyons,
Deputy Director, Office of Nuclear Regulatory Research.

[FR Doc. E9-12750 Filed 6-1-09; 8:45 am]

BILLING CODE 7590-01-P